DEPARTMENT OF HOMELAND SECURITY

Cybersecurity and Infrastructure Security Agency

[Docket No. CISA-2021-0016]

Notice of President's National Security Telecommunications Advisory Committee Meeting

AGENCY: Cybersecurity and Infrastructure Security Agency (CISA), Department of Homeland Security (DHS).

ACTION: Notice of Federal Advisory Committee Act (FACA) meeting; request for comments.

SUMMARY: CISA is publishing this notice to announce the following President's National Security Telecommunications Advisory Committee (NSTAC) meeting. This meeting will be partially closed to the public.

DATES: Meeting Registration: Registration to attend the meeting is required and must be received no later than 5:00 p.m. Eastern Time (ET) on October 26, 2021. For more information on how to participate, please contact NSTAC@cisa.dhs.gov.

Speaker Registration: Registration to speak during the meeting's public comment period must be received no later than 5:00 p.m. ET on October 26, 2021.

Written Comments: Written comments must be received no later than 5:00 p.m. ET on October 26, 2021.

Meeting Date: The NSTAC will meet on November 2, 2021, from 10:00 a.m. to 3:15 p.m. ET. The meeting may close early if the committee has completed its business.

ADDRESSES: The November 2021 NSTAC Meeting's open session is set to be held in person at 1717 H Street NW, Washington, DC. Capacity and location are subject to change based on DHS protocol regarding COVID-19 pandemic restrictions at the time of the meeting. Due to pandemic restrictions, members of the public may only participate via teleconference. Requests to participate will be accepted and processed in the order in which they are received. For access to the conference call bridge, information on services for individuals with disabilities, or to request special assistance, please email NSTAC@cisa.dhs.gov by 5:00 p.m. ET on October 26, 2021.

Comments: Members of the public are invited to provide comment on issues that will be considered by the committee as listed in the SUPPLEMENTARY INFORMATION section below. Associated materials that may be discussed during the meeting will be made available for review at https://www.cisa.gov/nstac on October 18, 2021. Comments should be submitted by 5:00 p.m. ET on October 26, 2021 and must be identified by Docket Number CISA-2021-0016. Comments may be submitted by one of the following methods:

• Federal eRulemaking Portal: www.regulations.gov. Please follow the instructions for submitting written comments.

• Email: NSTAC@cisa.dhs.gov. Include the Docket Number CISA-2021-0016 in the subject line of the email.

Instructions: All submissions received must include the words “Department of Homeland Security” and the Docket Number for this action. Comments received will be posted without alteration to www.regulations.gov, including any personal information provided.

Docket: For access to the docket and comments received by the NSTAC, please go to www.regulations.gov and enter docket number CISA-2021-0016.

A public comment period is scheduled to be held during the meeting from 2:40 p.m. to 2:50 p.m. ET. Speakers who wish to participate in the public comment period must email NSTAC@cisa.dhs.gov to register. Speakers should limit their comments to 3 minutes and will speak in order of registration. Please note that the public comment period may end before the time indicated, following the last request for comments.

FOR FURTHER INFORMATION CONTACT: Elizabeth Gauthier, 202-821-6620, NSTAC@cisa.dhs.gov.

SUPPLEMENTARY INFORMATION: The NSTAC was established by Executive Order (E.O.) 12382, 47 FR 40531 (September 13, 1982), as amended and continued under the authority of E.O. 13889, dated September 27, 2019. Notice of this meeting is given under FACA, 5 U.S.C. Appendix (Pub. L. 92-463). The NSTAC advises the President on matters related to national security and emergency preparedness (NS/EP) telecommunications and cybersecurity policy.

Agenda: The NSTAC will meet in an open session on Thursday, November 2, 2021, to discuss current NSTAC activities and the Government's ongoing cybersecurity and NS/EP communications initiatives. This open session will include: (1) A keynote address on fortifying the Nation's cybersecurity posture; (2) an update on Administration actions to NSTAC and joint NS/EP communications; (3) a deliberation and vote on the NSTAC Report to the President on Software Assurance in the Information and Communications Technology and Services Supply Chain; and (4) a status update from the NSTAC Zero-Trust and Trusted Identity Management Subcommittee.

The committee will also meet in a closed session from 10:00 a.m. to 12:00 p.m. during which time senior Government intelligence officials will provide a threat briefing concerning threats to NS/EP communications and engage NSTAC members in follow-on discussion.

Basis for Closure: In accordance with section 10(d) of FACA and 5 U.S.C. 552b(c)(9)(B), The Government in the Sunshine Act, it has been determined that a portion of the agenda requires closure, as the disclosure of the information that will be discussed would not be in the public interest.

This agenda item is the classified threat briefing and discussion, which will provide NSTAC members the opportunity to discuss information concerning threats to NS/EP communications with senior Government intelligence officials. The briefing is anticipated to be classified at the top secret/sensitive compartmented information level. Disclosure of these threats during the briefing, as well as vulnerabilities and mitigation techniques, is a risk to the Nation's cybersecurity posture, since adversaries could use this information to compromise commercial and Government networks.

Therefore, this portion of the meeting is required to be closed pursuant to section 10(d) of FACA and 5 U.S.C. 552b(c)(9)(B).

Elizabeth Gauthier,
Alternate Designated Federal Officer, NSTAC, Cybersecurity and Infrastructure Security Agency, Department of Homeland Security.

[FR Doc. 2021-22500 Filed 10-14-21; 8:45 am]

BILLING CODE 9110-9P-P